DEPARTMENT OF THE TREASURY

Internal Revenue Service

26 CFR Parts 1 and 301

[REG-107722-00]

RIN-1545-AY22

Corporate Estimated Tax; Correction

AGENCY: Internal Revenue Service (IRS), Treasury.

ACTION: Correction to notice of public hearing.

SUMMARY: This document corrects the notice of public hearing (REG-107722-00) that was published in the Federal Register on Monday, December 12, 2005 (70 FR 73393), that relates to corporate estimated taxes.

FOR FURTHER INFORMATION CONTACT: Joseph P. Dewald, (202) 622-4910 (not a toll-free number).

SUPPLEMENTARY INFORMATION:

Background

The notice of public hearing (REG-107722-00) that is the subject of this correction is under section 6655 of the Internal Revenue Code.

Need for Correction

As published, REG-107722-00 contains an error that may prove to be misleading and is in need of clarification.

Correction of Publication

Accordingly, the publication of the notice of public hearing (REG-107722-00) that was the subject of FR. Doc. 05-23872, is corrected as follows:

On page 73396, column 2, in the preamble, under the paragraph heading “Comments and Public Hearing”, first full paragraph of the column, lines 1 and 2, the language “A public hearing has been scheduled for February 22, 2006, beginning at 10” is corrected to read “A public hearing has been scheduled for March 15, 2006, beginning at 10”.

Cynthia E. Grigsby,
Acting Chief, Publications and Regulations Branch, Legal Processing Division, Associate Chief Counsel. (Procedure and Administration).

[FR Doc. 05-24091 Filed 12-12-05; 3:14 pm]

BILLING CODE 4830-01-P